DEPARTMENT OF COMMERCE

International Trade Administration

C-423-806

Preliminary Results of Full Sunset Review: Cut-to-Length Carbon Steel Plate from Belgium

AGENCY: Import Administration, International Trade Administration, Department of Commerce.

SUMMARY: On November 1, 2005, the Department of Commerce (the Department) initiated a sunset review of the countervailing duty (CVD) order on cut-to-length carbon steel plate from Belgium, pursuant to section 751(c) of the Tariff Act of 1930, as amended (the Act). On the basis of a notice of intent to participate and an adequate substantive response filed on behalf of the domestic interested parties and adequate responses from respondent interested parties, the Department determined to conduct a full sunset review of this CVD order pursuant to section 751(c) of the Act and 19 CFR 351.218(e)(2). As a result of our analysis, the Department preliminarily finds that revocation of the CVD order would be likely to lead to continuation or recurrence of a countervailable subsidy at the level indicated in the “Preliminary Results of Review” section of this notice.

EFFECTIVE DATE: July 21, 2006.

FOR FURTHER INFORMATION CONTACT: Martha Douthit or Sean Carey, AD/CVD Operations, Office 6, Import Administration, International Trade Administration, U.S. Department of Commerce, 14th Street and Constitution Avenue, NW, Washington, DC 20230; telephone: (202) 482-5050 or (202) 482-3964, respectively.

SUPPLEMENTARY INFORMATION:

Background

On November 1, 2005, the Department initiated the second sunset review of the CVD order on cut-to-length carbon steel plate (CTL plate) from Belgium, pursuant to section 751(c) of the Act. See Initiation of Five-year (“Sunset”) Reviews, 70 FR 65884 (November 1, 2005). The Department received notices of intent to participate from the following domestic interested parties: Oregon Steel Mills, IPSCO Steel Inc., Mittal Steel USA Inc., Nucor Corporation, United Steel, Paper and Forestry, Rubber, Manufacturing, Energy, Allied Industrial and Service Workers International Union, AFL-CIO-CLC (USW) (hereinafter, collectively domestic interested parties), within the deadline specified in 19 CFR 351.218(d)(1)(i). The domestic interested parties claimed interested party status under sections 771 (9)(C) and (D) of the Act, as domestic producers of CTL plate in the United States or as a certified union which is representative of an industry engaged in the manufacture, production, or wholesale of CTL plate in the United States. The Department received substantive responses from the domestic interested parties and the following respondent interested parties: the Government of Belgium (GOB), the European Union Delegation of the European Commission (the EC), Duferco Clabecq S.A. (Duferco), which purchased Forges de Clabecq S.A.(Clabecq), and Arcelor S.A., claiming to be the successor-in-interest to both Fabrique de Fer de Charleroi (Fafer)¹ and Cockerill Sambre (Cockerill).²

¹ In other proceedings under this order, Fafer has at times been referred to as “Fabfer.”

² Although Duferco reported that it purchased Forges de Clabecq S.A., and Arcelor claims to be successor-in-interest to the other two original respondent companies, the Department has not made a determination in the past that Duferco and Arcelor are the successors-in-interest to the respective respondent companies and is not making such a determination in this sunset review. However, we have considered in this sunset review the historical information provided with respect to Duferco and Arcelor for purposes of our privatization and change-in-ownership analyses. See Memorandum to Stephen J. Claeys, Deputy Assistant Secretary, Import Administration, Re: Sunset Review of Countervailing Duty Order on Cut-to-Length Carbon Steel Plate from Belgium; Analysis of Changes in Ownership, dated concurrently with this notice and on file in the Central Records Unit, Room B-099 of the Department of Commerce building (CRU).

On December 21, 2005, the Department determined that the participation of the respondent interested parties was adequate, and that it was appropriate to conduct a full sunset review. See Memorandum to Steven J. Claeys, Deputy Assistant Secretary, Import Administration, Re: Adequacy Determination; Sunset Review of the Countervailing Duty Order on Cut-to-Length Carbon Steel Plate from Belgium dated December 21, 2005, and on file in CRU. On February 10, 2006, the Department extended the time limit for the preliminary and final results of the sunset review of the CVD order on CTL plate from Belgium. See Cut-to-Length Carbon Steel Plate from Belgium, Sweden, and the United Kingdom; Extension of Time Limits for Preliminary and Final Results of Full Five-year (“Sunset”) Reviews of Countervailing Duty Orders, 71 FR 7017. The Department extended the preliminary results to no later than July 14, 2006, and the final results to no later than September 27, 2006.

Scope Of The Order

The product subject to this CVD order includes hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated, nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the United States Harmonized Tariff Schedule (“HTS”) under item numbers: 7208.31.0000, 7208.32.0000, 7208.33.1000, 7208.33.5000, 7208.41.0000, 7208.42.0000, 7208.43.0000, 7208.90.0000, 7210.70.3000, 7210.90.9000, 7211.11.0000, 7211.12.0000, 7211.21.0000, 7211.22.0045, 7211.90.0000, 7212.40.1000, 7212.40.5000, and 7212.50.5000. Included in this CVD order are flat-rolled products of non-rectangular cross-section where such cross-section is achieved subsequent to the rolling process (i.e., products which have been “worked after rolling”)--for example, products which have been beveled or rounded at the edges. Excluded from this order is grade X-70 plate. The HTS item numbers are provided for convenience and customs purposes. The written description remains dispositive.

The Court of Appeals for the Federal Circuit found, in Duferco Steel, Inc. v. United States, 296 F.3d 1087 (July 12, 2002), that imported floor plate is excluded from this CVD order on steel plate.

Analysis Of Comments Received

All issues raised in this review are addressed in the Preliminary Issues and Decision Memorandum from Stephen J. Claeys, Deputy Assistant Secretary for Import Administration, to David M. Spooner, Assistant Secretary for Import Administration (Preliminary Decision Memorandum), dated concurrently with this notice and which is hereby adopted by this notice. Parties can find a complete discussion of all issues raised in this review and the corresponding recommendation in this public memorandum which is on file in the Central Records Unit, room B-099 of the main Commerce building. In addition, a complete version of the Preliminary Decision Memorandum can be accessed directly on the Web at http://ia.ita.doc.gov/frn. The paper copy and electronic version of the Preliminary Decision Memorandum are identical in content.

Preliminary Results Of Review

The Department preliminarily determines that revocation of the CVD order would likely lead to continuation or recurrence of a countervailable subsidy. The net countervailable subsidy likely to prevail if the order were revoked is:

Producers/exporters | Net Countervailable Subsidy (percent)
Cockerill | 2.82
Fafer | 0.56
All others (including Clabecq) | 0.50

Interested parties may submit case briefs and hearing requests no later than two weeks after the date of publication of these preliminary results, in accordance with 19 CFR 351.309(c)(1)(i) and 19 CFR 351.310(c). Rebuttal briefs, which must be limited to issues raised in the case briefs, may be filed not later than five days from the filing of the case briefs, in accordance with 19 CFR 351.309(d). If a hearing is requested, parties will be notified of the date, time and location. The Department will issue a notice of final results of this sunset review no later than September 27, 2006, which will include the results of its analysis of issues raised in any such comments.

We are issuing and publishing these preliminary results and notice in accordance with sections 751(c), 752, and 777(i)(1) of the Act.

Dated: July 14, 2006.
David M. Spooner,
Assistant Secretary for Import Administration.

[FR Doc. E6-11622 Filed 7-20-06; 8:45 am]

BILLING CODE 3510-DS-S